OFFICE OF PERSONNEL MANAGEMENT

[Docket ID: OPM-2023-0032]

Submission for Review: 3206-0233, Civil Service Retirement System Survivor Annuitant Express Pay Application for Death Benefits, RI 25-51

AGENCY: Office of Personnel Management.

ACTION: 60-Day notice and request for comments.

SUMMARY: The Office of Personnel Management (OPM), Retirement Services, offers the general public and other Federal agencies the opportunity to comment on the review of the following expiring information collection request (ICR) with change: Civil Service Retirement System Survivor Annuitant Express Pay Application for Death Benefits, RI 25-51.

DATES: Comments are encouraged and will be accepted until November 24, 2023.

ADDRESSES: You may submit comments, identified by docket number and title, by the following method:

• Federal Rulemaking Portal: https://www.regulations.gov. Follow the instructions for submitting comments.

All submissions received must include the agency name and docket number for this document. The general policy for comments and other submissions from members of the public is to make these submissions available for public viewing at https://www.regulations.gov as they are received without change, including any personal identifiers or contact information.

FOR FURTHER INFORMATION CONTACT: A copy of this ICR with applicable supporting documentation, may be obtained by contacting the Retirement Services Publications Team, Office of Personnel Management, 1900 E Street NW, Room 3316-L, Washington, DC 20415, Attention: Cyrus S. Benson, or sent by email to Cyrus.Benson@opm.gov or faxed to (202) 606-0910 or reached via telephone at (202) 936-0401.

SUPPLEMENTARY INFORMATION: Eligible recipients of Civil Service Retirement System (CSRS) survivor benefits generally must apply for those benefits using Standard Form (SF) 2800, Application for Death Benefits. In a defined set of circumstances, a current surviving spouse of a deceased annuitant of the CSRS who elected a survivor annuity benefit for the surviving spouse may be eligible for Express Pay. OPM still requires a signed application and certified copy of the death certificate. Instead of completing the SF 2800, the survivor applies for the benefit by completing the form RI 25-51, Civil Service Retirement System Survivor Annuitant Express Pay Application for Death Benefits, because of the likelihood these surviving spouses are entitled to survivor annuity benefits. Use of this form allows OPM to expedite processing and to limit possible financial hardship that a delay in payment might otherwise cause affected surviving spouses.

Minor changes were made to the form and instructions to provide respondents clear instructions and to update contact information. No changes are being made to the approved burden hours for this information collection.

As required by the Paperwork Reduction Act of 1995 (Pub. L. 104-13) as amended (44 U.S.C. chapter 35), OPM is soliciting comments for this collection (OMB No. 3206-0233). OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office of Personnel Management, Retirement Services.

Title: Civil Service Retirement System Survivor Annuitant Express Pay Application for Death Benefits.

OMB Number: 3206-0233.

Frequency: On occasion.

Affected Public: Individuals or Households.

Number of Respondents: 34,800.

Estimated Time per Respondent: 30 minutes.

Total Burden Hours: 17,400 hours.

Office of Personnel Management.
Kayyonne Marston,
Federal Register Liaison.

[FR Doc. 2023-20638 Filed 9-22-23; 8:45 am]

BILLING CODE 6325-38-P